DEPARTMENT OF THE INTERIOR

Fish and Wildlife Service

[FWS-R8-ES-2009-N0020; 81430-1121-8GEN-F3]

Proposed Safe Harbor Agreement for the Deane Dana Friendship Community Regional Park in Los Angeles County, CA

AGENCY: Fish and Wildlife Service, Interior.

ACTION: Notice of availability.

SUMMARY: The County of Los Angeles, Department of Parks and Recreation (Applicant) has applied to the U.S. Fish and Wildlife Service (Service) for an Enhancement of Survival permit pursuant to section 10(a)(1)(A) of the Endangered Species Act of 1973, as amended. The Service is considering the issuance of a 30-year permit to the Applicant that would authorize take of the federally endangered Palos Verdes blue butterfly (Glaucopsyche lygdamus palosverdesensis; “PVB”) through a Safe Harbor Agreement (SHA). The purpose of this SHA is for the Applicant to restore a minimum of 8 acres of habitat for the PVB through the implementation of a habitat restoration plan at Deane Dana Friendship Community Regional Park (Friendship Park), a known historic location for this species. Friendship Park is owned by the County of Los Angeles. The Applicant seeks to provide for the long-term recovery of PVB in the wild through the restoration of suitable habitat that can accommodate passive or active reintroduction of the site from the U.S. Navy Defense Fuel Support Point, San Pedro (DFSP) or other extant locations that may be present within the historic range of the species. The Service has made a preliminary determination that the proposed SHA and permit application are eligible for categorical exclusion under the National Environmental Policy Act of 1969 (NEPA). The basis for this preliminary determination is contained in an Environmental Action Statement.

We request comments from the public on the permit application and the Environmental Action Statement, both of which are available for review. The permit application includes the proposed SHA. The SHA describes the proposed project and the measures that the Applicant would undertake to avoid and minimize take of the covered species.

DATES: Written comments should be received on or before May 6, 2009.

ADDRESSES: Please address written comments to Samantha Marcum, U.S. Fish and Wildlife Service, Carlsbad Fish and Wildlife Office, 6010 Hidden Valley Road, Suite 101, Carlsbad, California 92011. Comments may also be sent by facsimile to 760-918-0638.

FOR FURTHER INFORMATION CONTACT: Jim Bartel, Field Supervisor, Carlsbad Fish and Wildlife Office (see ADDRESSES); telephone: (760) 431-9440.

SUPPLEMENTARY INFORMATION:

Availability of Documents

Individuals wishing copies of the permit application, copies of our Environmental Action Statement, and/or copies of the full text of the SHA should immediately contact the Service by telephone at (760) 431-9440 or by letter to the Carlsbad Fish and Wildlife Office. Copies of the documents also are available for public inspection during regular business hours at the Carlsbad Fish and Wildlife Office [see ADDRESSES].

Background

Section 9 of the Endangered Species Act (Act) of 1973, as amended (16 U.S.C. 1531 et seq.) and its implementing Federal regulations prohibit the take of animal species listed as endangered or threatened. Take is defined under the Act as to harass, harm, pursue, hunt, shoot, wound, kill, trap, capture or collect listed animal species, or attempt to engage in such conduct (16 U.S.C. 1538). However, under section 10(a) of the Act, the Service may issue permits to authorize incidental take of listed species. “Incidental take” is defined by the Act as take that is incidental to, and not the purpose of, carrying out an otherwise lawful activity. Regulations governing incidental take permits for endangered and threatened species, respectively, are found in the Code of Federal Regulations at 50 CFR 17.22 and 50 CFR 17.32.

The Applicant (Los Angeles County Department of Parks and Recreation) is seeking a permit for take of the Palos Verdes blue butterfly during the life of the permit. This species is referred to as the “PVB” in the proposed SHA.

Under a SHA, participating landowners voluntarily undertake management activities on their property to enhance, restore, or maintain habitat benefiting species listed under the Act. SHAs, and the subsequent enhancement of survival permits that are issued pursuant to Section 10(a)(1)(A) of the Act, encourage private and other non-Federal property owners to implement conservation efforts for Federally listed species by assuring property owners that they will not be subjected to increased property use restrictions as a result of their efforts to attract Federally listed species to their property, or to increase the numbers or distribution of Federally listed species already on their property. Application requirements and issuance criteria for enhancement of survival permits through Safe Harbor Agreements are found in 50 CFR 17.22(c).

We have worked with the Applicant to develop the proposed SHA for the conservation of the PVB via habitat restoration within 8 acres of the 125-acre Friendship Park in Los Angeles County, California. Friendship Park is located within the cities of Los Angeles and Rancho Palos Verdes on the Palos Verdes Peninsula (Peninsula) in the southern part of Los Angeles County. The park occurs within the U.S. Geological Survey 7.5-minute series San Pedro topographic quadrangle (township 5 south, range 14 west, within the Los Verdes Land Grant Boundary) and comprises approximately 125 acres bordered roughly by Western Avenue on the west and Rue le Charlene and Ninth Street on the north.

This SHA provides for the restoration, enhancement, and management of coastal sage scrub (CSS) habitat containing hostplants suitable for the PVB within Friendship Park. The proposed duration of the SHA is 30 years, and the proposed term of the enhancement of survival permit is 30 years, provided that the Service determines that the actions identified in the SHA were implemented prior to the SHA's expiration. When fully implemented, the SHA and requested enhancement of survival permit will allow the Applicant to return habitat conditions to baseline after the end of the 30-year term of the SHA and permit, if so desired by the Applicant. The SHA and associated restoration plan fully describe the management activities to be undertaken by the Applicant, and the net conservation benefits expected to the PVB. Upon approval of this SHA, and consistent with the Service's Safe Harbor Policy published in the Federal Register on June 17, 1999 (64 FR 32717), the Service would issue a permit to the Applicant authorizing take of the PVB incidental to the implementation of the management activities specified in the SHA, incidental to other lawful uses of the enrolled property including normal, routine land management activities, and to return to pre-SHA conditions (baseline). Under the SHA, the Applicant would undertake management activities to benefit the PVB by: planting 934 ocean locoweed (Astragalus trichopodus var.lonchus) and 1,400 deerweed (Lotus scoparius) plants (PVB hostplants) in a matrix of native CSS plants that will benefit a variety of dependent wildlife species including the PVB; completing restoration of 8 acres of park land into CSS habitat with a diverse native plant community and high structural diversity; controlling invasive weeds; and increasing the connectivity of CSS habitats on the Peninsula within the Enrolled Property.

In order to receive the above assurances regarding incidental take of the PVB, the Applicant must maintain baseline on the Enrolled Property. The Service and Applicant have determined that the measure of baseline for PVB will be the number of ocean locoweed plants that were present within Friendship Park prior to restoration actions. The Palos Verdes blue butterfly does not currently inhabit the Enrolled Property. Therefore, the baseline for the SHA is 194 ocean locoweed plants within 0.055 acres of habitat for the PVB. There were only a few scattered deerweed plants on the property prior to restoration actions, and these plants are not considered part of the baseline condition.

If you wish to comment on the permit application, including the SHA, or the Environmental Action Statement, you may submit your comments to the address listed in the ADDRESSES section of this document. Comments and materials received, including names and addresses of respondents, will be available for public review, by appointment, during normal business hours at the address in the ADDRESSES section above. If you provide personal identifying information, you may request at the beginning of your comment that we withhold this information from public review. However, we cannot guarantee that we will be able to do so.

We will evaluate this permit application, associated documents, and comments submitted thereon to determine whether the permit application meets the requirements of section 10(a) of the Act and NEPA regulations. If we determine that the requirements are met, we will sign the proposed Agreement and issue an enhancement of survival permit under section 10(a)(1)(A) of the Act to the Applicants for take of the PVB incidental to otherwise lawful activities in accordance with the terms of the SHA. We will not make our final decision until after the end of the 30-day comment period and will fully consider all comments received during the comment period.

The Service provides this notice pursuant to section 10(c) of the Act and pursuant to implementing regulations for NEPA (40 CFR 1506.6).

Dated: March 31, 2009.
Jim A. Bartel,
Field Supervisor, Carlsbad Fish and Wildlife Office, Carlsbad, California.

[FR Doc. E9-7608 Filed 4-3-09; 8:45 am]

BILLING CODE 4310-55-P